INTERNATIONAL TRADE COMMISSION

[Investigation Nos. 701-TA-480 and 731-TA-1188 (Review)]

High Pressure Steel Cylinders From China

Determinations

On the basis of the record ¹ developed in the subject five-year reviews, the United States International Trade Commission (“Commission”) determines, pursuant to the Tariff Act of 1930 (“the Act”), that revocation of the countervailing and antidumping duty orders on high pressure steel cylinders from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on May 1, 2017 (82 FR 20314) and determined on August 4, 2017 that it would conduct expedited reviews (82 FR 42836, September 12, 2017).

The Commission made these determinations pursuant to section 751(c) of the Act (19 U.S.C. 1675(c)). It completed and filed its determinations in these reviews on October 31, 2017. The views of the Commission are contained in USITC Publication 4738 (October 2017), entitled High Pressure Steel Cylinders from China: Investigation Nos. 701-TA-480 and 731-TA-1188 (Review).

By order of the Commission.
Issued: October 30, 2017.
Lisa R. Barton,
Secretary to the Commission.

[FR Doc. 2017-23929 Filed 11-2-17; 8:45 am]

BILLING CODE 7020-02-P